DEPARTMENT OF JUSTICE

ANTITRUST DIVISION

Notice Pursuant to the National Cooperative Research and Production Act of 1993—Network Centric Operations Industry Consortium, Inc.

Notice is hereby given that, on December 5, 2006, pursuant to Section 6(a) of the National Cooperative Research and Production Act of 1993, 15 U.S.C. 4301 et seq. (“the Act”), Network Centric Operations Industry Consortium, Inc. has filed written notifications simultaneously with the Attorney General and the Federal Trade Commission disclosing changes in its membership. The notifications were filed for the purpose of extending the Act's provisions limiting the recovery of antitrust plaintiffs to actual damages under specified circumstances. Specifically, ASELSAN Elektronik Sanayi ve Ticaret, A.S., Ankara, TURKEY; Finmeccanica, Roma, ITALY; SGI, Mountain View, CA; MilSOFT Yazilim Teknolojileri A.S., Ankara, TURKEY; U.S. Department of Defense, Defense Information Systems Agency, Falls Church, VA; and Telephonics Corporation, Farmingdale, NY have been added as parties to this venture.

Also, Oracle Corporation, Redwood Shores, CA; Anteon Corporation, Fairfax, VA; Systems Integration & Development, Inc., Rockville, MD; and OrderOne Networks, Orangeville, Ontario, CANADA have withdrawn as parties to this venture. In addition, Marconi Communications Federal, Inc. has changed its name to Ericsson Federal, Inc., Columbia, MD.

No other changes have been made in either the membership or planned activity of the group research project. Membership in this group research project remains open, and Network Centric Operations Industry Consortium, Inc. intends to file additional written notifications disclosing all changes in membership.

On November 19, 2004, Network Centric Operations Industry Consortium, Inc. filed its original notification pursuant to Section 6(a) of the Act. The Department of Justice published a notice in the Federal Register pursuant to Section 6(b) of the Act on February 2, 2005 (70 FR 5486).

The last notification was filed with the Department on September 6, 2006. A notice was published in the Federal Register pursuant to Section 6(b) of the Act on October 2, 2006 (71 FR 58006).

Patricia A. Brink,
Deputy Director of Operations, Antitrust Division.

[FR Doc. 06-9929 Filed 12-28-06; 8:45 am]

BILLING CODE 4410-11-M